DEPARTMENT OF LABOR

Employment and Training Administration

Hewlett Packard Company, et al. Amended Certification Regarding Eligibility To Apply for Worker Adjustment Assistance

TA-W-83,035

Hewlett Packard Company, HP Enterprise Services, America Sales Operations, Omaha, Nebraska

TA-W-83,035A

Hewlett Packard Company, Order Management, America Sales Operations, Omaha, Nebraska

TA-W-83,035B

Hewlett Packard Company, Technology & Operations, Sales Operations, WW Sales Transformation, Quote To Order, Quote And Configuration Including Remote Workers From Arkansas, California, Colorado, Florida, Idaho, Massachusetts And Texas Including Leased Workers From Modis Omaha, Nebraska

TA-W-83,035C

Hewlett Packard Company, Technology & Operations, Sales Operations, AMS Sales Operations, Lead To Order, Sales Services Support Including Remote Workers From Arkansas, California, Massachusetts And Texas Omaha, Nebraska

In accordance with Section 223 of the Trade Act of 1974, as amended (“Act”), 19 U.S.C. 2273, the Department of Labor issued a Certification of Eligibility to Apply for Worker Adjustment Assistance on September 12, 2013, applicable to workers of Hewlett Packard Company, HP Enterprise Services, America Sales Operations, Omaha, Nebraska (TA-W-83,035). The certification was amended on April 23, 2015 to include workers of Hewlett Packard Company, Order Management, America Sales Operations, Omaha, Nebraska (TA-W-83,035A) and Hewlett Packard Company, Technology & Operations, Sales Operations, WW Sales Transformation, Quote to Order, Quote and Configuration, including remote workers from Arkansas, California, Colorado, Florida, Idaho, Massachusetts, and Texas, including leased workers from Modis, Omaha, Nebraska (TA-W-83,035B). Workers were engaged in activities related to the supply of order management services and post sales customer activities.

During the course of a subsequent Trade Adjustment Assistance (TAA) investigation, the Department reviewed the certification and administrative record of TA-W-83,035 for workers of the subject firm and received additional information regarding the aforementioned certification.

The review revealed that the workers of Hewlett Packard Company, Technology & Operations, Sales Operations, AMS Sales Operations, Lead to Order, Sales Services Support, including remote workers from Arkansas, California, Massachusetts, and Texas, reporting to Omaha, Nebraska (TA-W-83,035C) supplied support services to the subject firm and reported to the subject firm.

Based on these findings, the Department is amending this certification to include the workers of Hewlett Packard Company, Technology & Operations, Sales Operations, AMS Sales Operations, Lead to Order, Sales Services Support, including remote workers from Arkansas, California, Massachusetts, and Texas, reporting to Omaha, Nebraska (TA-W-83,035C). The amended notice applicable to TA-W-83,035 is hereby issued as follows:

All workers of Hewlett Packard Company, HP Enterprise Services, America Sales Operations, Omaha, Nebraska (TA-W-83,035); Hewlett Packard Company, Order Management, America Sales Operations, Omaha, Nebraska (TA-W-83,035A); Hewlett Packard Company, Technology & Operations, Sales Operations, WW Sales Transformation, Quote to Order, Quote and Configuration, including remote workers from Arkansas, California, Colorado, Florida, Idaho, Massachusetts, and Texas, including leased workers from Modis, Omaha, Nebraska (TA-W-83,035B); and Hewlett Packard Company, Technology & Operations, Sales Operations, AMS Sales Operations, Lead to Order, Sales Services Support, including remote workers from Arkansas, California, Massachusetts, and Texas, reporting to Omaha, Nebraska (TA-W-83,035C) who became totally or partially separated from employment on or after August 28, 2012 through September 12, 2015, and all workers in the group threatened with total or partial separation from employment on the date of certification through two years from the date of certification, are eligible to apply for adjustment assistance under Chapter 2 of Title II of the Trade Act of 1974, as amended.

Signed in Washington, DC, this 4th day of June, 2015.
Del Min Chen,
Certifying Officer, Office of Trade Adjustment Assistance.

[FR Doc. 2015-19715 Filed 8-11-15; 8:45 am]

BILLING CODE 4510-FN-P